DEPARTMENT OF HEALTH AND HUMAN SERVICES

Centers for Disease Control and Prevention

[30Day-22-22CL]

Agency Forms Undergoing Paperwork Reduction Act Review

In accordance with the Paperwork Reduction Act of 1995, the Centers for Disease Control and Prevention (CDC) has submitted the information collection request titled Population-based Surveillance of Outcomes, Needs, and Well-being of Children and Adolescents with Congenital Heart Defects to the Office of Management and Budget (OMB) for review and approval. CDC previously published a “Proposed Data Collection Submitted for Public Comment and Recommendations” notice on February 14, 2022 to obtain comments from the public and affected agencies. CDC received five comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Population-based Surveillance of Outcomes, Needs, and Well-being of Children and Adolescents with Congenital Heart Defects—New—National Center on Birth Defects and Developmental Disabilities (NCBDDD), Centers for Disease Control and Prevention (CDC).

Background and Brief Description

Congenital heart defects (CHD) are the most common type of structural birth defects, affecting approximately one in 110 live-born children. Due to advances in survival, there are approximately one million children with CHD in the United States. With vast declines in mortality from pediatric heart disease over the past 30 years, it is vital to evaluate health, social, educational, and quality of life outcomes beyond infancy and early childhood. However, existing U.S. population-based data are lacking on these outcomes among those born with CHD and the changes that may occur with time and age. U.S. data is needed to provide insight into the public health questions that remain for this population and to develop services and allocate resources to improve long-term health and well-being.

For this project, we will use data from U.S. birth defect surveillance systems, or population-based studies derived from them, to identify a population-based sample of children and adolescents two to 17 years of age born with CHD. Parents and caregivers of these individuals will serve as respondents for the CHSTRONG-KIDS survey. The CHSTRONG-KIDS survey will be administered at three sites. One site will be Atlanta, Georgia, where CDC has managed and led the Metropolitan Atlanta Congenital Defects Program (MADCP) since 1967 and has a history of collaboration with local hospitals and the Georgia Department of Health. A competitive review process is underway to select the two additional sites. All three sites will then use state databases and online search engines to find current addresses for parents and caregivers of children with CHD and mail paper surveys to them.

Survey questions inquire about the child's cardiac and other healthcare utilization,barriers to health care, quality of life, social and educational outcomes, and transition of care from childhood to adulthoodas well asneeds andexperiencesof thecaregivers. The information collected from this population-based survey will be used to inform current knowledge, allocate resources, develop services, and, ultimately, improve long-term health of children and adolescents born with CHD and their caregivers.

OMB approval is requested for three years. During this period, we estimate receiving completed surveys from a total of 7,667 caregivers of children and adolescents with CHD, which equates to 2,556 respondents per year. To generate sufficient sample size, accounting for non-response, we intend to sample 100% of eligible CHD cases identified through select birth defect surveillance systems. The survey takes approximately 20 minutes to complete, and includes skip patterns so that parents or caregivers are only asked age-relevant questions about their child to minimize burden per response. CDC estimates an annual total burden of 852 hours. Survey participation is voluntary and there are no costs to participants other than their time.

Estimated Annualized Burden Hours
Type of respondents | Form name | Number of respondents | Number of responses per respondent | Average burden per response (in hours)
Caregivers of individuals aged 2-17 years with a congenital heart defect | Congenital Heart Survey To Recognize Outcomes, Needs, and wellbeinG of KIDS (CHSTRONG-KIDS) | 2,556 | 1 | 20/60

Jeffrey M. Zirger,
Lead, Information Collection Review Office, Office of Scientific Integrity, Office of Science, Centers for Disease Control and Prevention.

[FR Doc. 2022-15730 Filed 7-21-22; 8:45 am]

BILLING CODE 4163-18-P